DEPARTMENT OF HOMELAND SECURITY

Federal Law Enforcement Training Center

Meeting of the National Center for State and Local Law Enforcement Training Advisory Committee

AGENCY: Federal Law Enforcement Training Center, Department of Homeland Security.

ACTION: Notice of meeting.

SUMMARY: The Advisory Committee to the National Center for State and Local Law Enforcement Training (National Center) at the Federal Law Enforcement Training Center will meet on May 18, 2005, beginning at 8 a.m.

ADDRESSES: Federal Law Enforcement Training Center, 1131 Chapel Crossing Road, Glynco, GA 31524.

FOR FURTHER INFORMATION CONTACT: Reba Fischer, Designated Federal Officer, National Center for State and Local Law Enforcement Training, Federal Law Enforcement Training Center, Glynco, GA 31524, (912) 267-2343, reba.fischer@dhs.gov.

SUPPLEMENTARY INFORMATION: The agenda for this meeting includes briefings from FLETC staff on National Center activities and discussion on strategic goals. This meeting is open to the public. Anyone desiring to attend must contact Reba Fischer, the Designated Federal Officer, no later than May 9, 2005, at (912) 267-2343, to arrange clearance.

Dated: April 7, 2005.
Stanley Moran,
Director, National Center for State and Local Law Enforcement Training.

[FR Doc. 05-7481 Filed 4-11-05; 11:10 am]

BILLING CODE 4810-32-P